DEPARTMENT OF DEFENSE

Department of the Air Force

[Docket ID USAF-2009-0002]

Privacy Act of 1974; System of Records

AGENCY: Department of the Air Force, DoD.

ACTION: Notice to Reinstate a System of Records.

SUMMARY: The Department of Air Force proposes to reinstate a system of records to its inventory of record systems subject to the Privacy Act of 1974 (5 U.S.C. 552a), as amended.

After review, it has been determined that the records covered under this previously deleted notice (see 73 FR 66872, November 12, 2008) are not covered elsewhere as stated; therefore, this notice is being reinstated.

DATES: This action will be effective on February 11, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-6488.

SUPPLEMENTARY INFORMATION: The Department of the Air Force systems of records notices subject to the Privacy Act of 1974, (5 U.S.C. 552a), as amended, have been published in the Federal Register and are available from the address above.

The Department of Air Force proposes to reinstate a system of records to its inventory of record systems subject to the Privacy Act of 1974 (5 U.S.C. 552a), as amended. The previous system of records notice is being republished in its entirety, below. The reinstatement is not within the purview of subsection (r) of the Privacy Act of 1974, (5 U.S.C. 552a), as amended, which requires the submission of a new or altered system report.

Dated: January 6, 2009.
Morgan E. Frazier,
Alternate OSD Federal Register Liaison Officer, Department of Defense.

F031 AFMC A

SYSTEM NAME:

AFMC Badge and Vehicle Control Records.

SYSTEM LOCATION:

Headquarters Air Force Materiel Command/SP, Wright-Patterson Air Force Base, OH 45433-5320 and Air Force Materiel Command bases. Official mailing addresses are published as an appendix to the Air Force's compilation of systems of records notices.

CATEGORIES OF INDIVIDUALS COVERED BY THE SYSTEM:

Air Force Materiel Command (AFMC) military and civilian personnel and visitors to AFMC headquarters and installations.

CATEGORIES OF RECORDS IN THE SYSTEM:

Badge and vehicle control records to include name; home address; home telephone; citizenship; grade or rank; Social Security Number; clearance level; company employed by; military address; vehicle state license tag data; vehicle make, year, type and color; decal number; revoked license status.

AUTHORITY FOR MAINTENANCE OF THE SYSTEM:

10 U.S.C. 8013, Secretary of the Air Force: Powers and duties; delegation by, and E.O. 9397 (SSN).

PURPOSE(S):

Badge records are used to record building/area entry credential information, including information on the loss or theft of these credentials.

Motor vehicle records are used to identify vehicles parked in an unsafe manner, enforce vehicle flow plan, notify owners in case of evacuation and maintain effective security plan.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices apply to this system.

POLICIES AND PRACTICES FOR STORING, RETRIEVING, ACCESSING, RETAINING, AND DISPOSING OF RECORDS IN THE SYSTEM:

STORAGE:

Maintained in computers and computer output products, and in paper form.

RETRIEVABILITY:

Records are retrieved by Social Security Number.

SAFEGUARDS:

Records are accessed by persons responsible for servicing the record system in performance of their official duties who are properly screened and cleared for need-to-know. Records are stored in locked cabinets, locked rooms, or buildings with controlled entry. Computer records are controlled by computer system software.

RETENTION AND DISPOSAL:

Badge records are destroyed immediately after badge is permanently surrendered or confiscated. Vehicle records are destroyed immediately after termination of registration. Records are destroyed by tearing into pieces, shredding, pulping, macerating or burning. Computer records are destroyed by erasing, deleting or overwriting.

SYSTEM MANAGER(S) AND ADDRESS:

Headquarters Air Force Materiel Command/SP, Wright-Patterson Air Force Base, OH 45433-5320, or Chief of Security Police at AFMC installations. Official mailing addresses are published as an appendix to the Air Force's compilation of systems of records notices.

NOTIFICATION PROCEDURE:

Individuals seeking to determine whether this system of records contains information on themselves should address inquiries to Headquarters Air Force Materiel Command/SP, Wright-Patterson Air Force Base, OH 45433-5320, or Chief of Security Police at AFMC installations. Official mailing addresses are published as an appendix to the Air Force's compilation of systems of records notices.

RECORD ACCESS PROCEDURES:

Individuals seeking to access records about themselves contained in this system should address requests to Headquarters Air Force Materiel Command/SP, Wright-Patterson Air Force Base, OH 45433-5320, or Chief of Security Police at AFMC installations. Official mailing addresses are published as an appendix to the Air Force's compilation of systems of records notices.

CONTESTING RECORD PROCEDURES:

The Air Force rules for accessing records, and for contesting contents and appealing initial agency determinations are published in Air Force Instruction 37-132; 32 CFR part 806b; or may be obtained from the system manager.

RECORD SOURCE CATEGORIES:

Information obtained from individuals and from automated system interface.

EXEMPTIONS CLAIMED FOR THE SYSTEM:

None.

[FR Doc. E9-242 Filed 1-9-09; 8:45 am]

BILLING CODE 5001-06-P